DEPARTMENT OF TRANSPORTATION

Federal Highway Administration

[FHWA Docket No. FHWA-2005-23112]

Motorcyclist Advisory Council to the Federal Highway Administration

AGENCY: Federal Highway Administration (FHWA), DOT.

ACTION: Notice of intent to form an advisory committee.

SUMMARY: Pursuant to the Safe, Accountable, Flexible, Efficient Transportation Equity Act: A Legacy for Users (SAFETEA-LU), the Secretary of Transportation, acting through the Administrator of the Federal Highway Administration, is establishing a Council to coordinate with and advise the Administrator on infrastructure issues of concern to motorcyclists. The purpose of this notice is to invite interested parties to submit comments on the issues that should be discussed by the Motorcyclist Advisory Council to the Federal Highway Administration, and the organizations and participants to be considered for representation on the council.

DATES: Comments and/or applications for membership or nominations for membership on the Council must be received on or before January 23, 2006.

FOR FURTHER INFORMATION CONTACT: Mr. John Baxter, Director, Office of Safety Design, 202-366-9198 (John.Baxter@fhwa.dot.gov); or Ms. Alla Shaw, Office of the Chief Counsel, (202) 366-1042; 400 Seventh Street, SW., Washington, DC 20590. Office hours are from 7:45 a.m. to 4:15 p.m., e.t., Monday through Friday, except Federal holidays.

SUPPLEMENTARY INFORMATION:

Electronic Access

You may submit or retrieve comments online through the Document Management System (DMS) at: http://dms.dot.gov/submit. The DMS is available 24 hours each day, 365 days each year. Electronic submission and retrieval help and guidelines are available under the help section of the Web site.

An electronic copy of this document may be downloaded from the Federal Register's home page at: http://www.archives.gov and the Government Printing Office's database at: http://www.access.gpo.gov/nara.

Anyone is able to search the electronic form of all comments received into any of our dockets by the name of the individual submitting the comment (or signing the comment, if submitted on behalf of an association, business, labor union, etc.). You may review DOT's complete Privacy Act Statement in a Federal Register published on April 11, 2000 (70 FR 19477), or you may visit http://dms.dot.gov.

Please note that even after the comment closing date, we will continue to file relevant information in the Docket as it becomes available. Further, some people may submit late comments and we recommend that you periodically check the Docket for new material.

Background

On August 10, 2005, the President signed into law the Safe, Accountable, Flexible, Efficient Transportation Equity Act: A Legacy for Users (SAFETEA-LU) (Pub. L. 109-59, 119 Stat. 1144). Section 1914 of SAFETEA-LU mandates the establishment of a Motorcyclist Advisory Council.

The Secretary, acting through the Administrator of the Federal Highway Administration, in consultation with the Committee on Transportation and Infrastructure of the House of Representatives and the Committee on Environment and Public Works of the Senate, shall appoint a Motorcyclist Advisory Council to coordinate with and advise the Administrator on infrastructure issues of concern to motorcyclists.

A. Notice of Intent To Establish an Advisory Committee and Request for Comment

In accordance with the requirements of the Federal Advisory Committee Act (5 U.S.C. App. II), an agency of the Federal government cannot establish or utilize a group of people in the interest of obtaining consensus advice or recommendations unless that group is chartered as a Federal advisory committee. The purpose of this notice is to indicate the FHWA's intent to create a Federal advisory committee, to identify highway infrastructure issues of concern to motorcyclists and to identify potential organizations and participants who will adequately represent interests regarding these infrastructure issues.

B. Name of Committee

Motorcyclist Advisory Council to the Federal Highway Administration.

C. Purpose and Objective

Motorcyclist Advisory Council to the Federal Highway Administration (MAC-FHWA), coordinates and advises the Secretary of the Department of Transportation, acting through the Administrator of the Federal Highway Administration, on infrastructure issues of concern to motorcyclists, including:

(1) Barrier design;

(2) Road design, construction, and maintenance practices; and

(3) The architecture and implementation of intelligent transportation system technologies.

The MAC-FHWA does not exercise program management or regulatory development responsibilities, and makes no decisions directly affecting the programs on which it provides advice. The MAC-FHWA provides a forum for the development, consideration, and communication of information from a knowledgeable and independent perspective.

D. Balanced Membership Plans

According to section 1914 of SAFETEA-LU, the Council shall consist of not more than 10 members of the motorcycling community with professional expertise in national motorcyclist safety advocacy, including:

(1) At least:

(A) One member recommended by a national motorcyclist association;

(B) One member recommended by a national motorcycle riders foundation;

(C) One representative of the National Association of State Motorcycle Safety Administrators;

(D) Two members of State motorcyclists' organizations;

(E) One member recommended by a national organization that represents the builders of highway infrastructure;

(F) One member recommended by a national association that represents the traffic safety systems industry; and

(G) One member of a national safety organization; and

(2) At least one, and not more than two, motorcyclists who are traffic system design engineers or State transportation department officials.

This document gives notice of this process to potential participants and affords them the opportunity to request representation on the MAC-FHWA. The procedure for requesting such representation is set out below. In addition, we invite comments and suggestions for potential participants.

The FHWA is aware that there are many more potential organizations and participants than there are membership slots on the council. Organizations and participants should be prepared to support their participation on the council.

It is very important to recognize that interested parties who are not selected to membership on the Council can make valuable contributions to the work of the MAC-FHWA in any of several ways. For example, the person or organization could request to be placed on the council mailing list, submitting written comments, as appropriate.

Any member of the public is welcome to attend the Council meetings, and, as provided in FACA, speak to the council. Time will be set aside during each meeting for this purpose, consistent with the council's need for sufficient time to complete its deliberations.

E. Applications for Membership

Each application for membership or nomination to the Council should include:

(1) The name of the applicant or nominee and the interest(s) identified in section 1914 of SAFETEA-LU such person would represent;

(2) Evidence that the applicant or nominee is authorized to represent parties related to the interest(s) the person proposes to represent; and

(3) A written commitment that the applicant or nominee would participate in good faith.

Every effort is made to select Council members who are objective. A balance is needed and weight is given to a variety of factors including but not limited to geographical distribution, gender, minority status, organization, and expertise.

F. Duration

Continuing.

G. Notice of Establishment

After evaluating comments received as a result of this Notice, the Department will issue a notice announcing the establishment and composition of the Council.

(Authority: Section 1914 of Pub. L. 109-59)

Issued on: December 16, 2005.
J. Richard Capka,
Acting Federal Highway Administrator.

[FR Doc. E5-7795 Filed 12-22-05; 8:45 am]

BILLING CODE 4910-22-P